DEPARTMENT OF TRANSPORTATION

Federal Motor Carrier Safety Administration

[Docket No. FMCSA-2016-0325]

Motor Carrier Safety Assistance Program Multiyear Plans

AGENCY: Federal Motor Carrier Safety Administration (FMCSA), DOT.

ACTION: Notice: Request for comments.

SUMMARY: The Fixing America's Surface Transportation (FAST) Act requires the Secretary to prescribe procedures for a State to submit multiple-year plans for the Motor Carrier Safety Assistance Program (MCSAP) grants. FMCSA seeks information to improve development and implementation of multiple-year plans.

DATES: Responses to these questions must be received on or before November 28, 2016.

ADDRESSES: You may submit comments bearing the Federal Docket Management System (FDMS) Docket ID FMCSA-2016-0325 using any of the following methods:

• Federal eRulemaking Portal: Go to www.regulations.gov. Follow the on-line instructions for submitting comments.

• Mail: Docket Management Facility; U.S. Department of Transportation, 1200 New Jersey Avenue SE., West Building Ground Floor, Room W12-140, Washington, DC 20590-0001.

• Hand Delivery or Courier: West Building Ground Floor, Room W12-140, 1200 New Jersey Avenue SE., Washington, DC, between 9 a.m. and 5 p.m., ET, Monday through Friday, except Federal Holidays.

• Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The on-line FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Mr. Thomas Liberatore, Chief, State Programs Division, FMCSA, (202) 366-3030 or by email at Thomas.Liberatore@dot.gov. Office hours are from 8:00 a.m. to 5:00 p.m., E.T., Monday through Friday, except Federal holidays.

SUPPLEMENTARY INFORMATION:

Public Participation and Request for Comments

FMCSA encourages you to participate by submitting comments and related materials.

Submitting Comments

If you submit a comment, please include the docket number for this notice (FMCSA-2016-0325), indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number, “FMCSA-2016-0325” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number, “FMCSA-2016-0325” in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Background

As prescribed in the FAST Act, the goal of the MCSAP is to ensure that there is a partnership to establish programs to improve motor carrier, commercial motor vehicle (CMV), and driver safety to support a safe and efficient surface transportation system. MCSAP makes targeted investments to promote CMV safety, including the transportation of passengers and hazardous materials. FMCSA encourages the States and Territories to invest in activities likely to maximize reductions in the number and severity of CMV crashes and fatalities resulting from such crashes. This is accomplished by adopting and enforcing effective motor carrier, CMV, and driver safety regulations and practices consistent with Federal requirements, assessing and improving statewide performance by setting program goals, and meeting performance standards, measures, and benchmarks.

Since Fiscal Year (FY) 1983, the Federal Highway Administration (FHWA), FMCSA's predecessor agency, or FMCSA have awarded MCSAP funds annually to the States after submission of a satisfactory Commercial Vehicle Safety Plan (CVSP). Pursuant to FMCSA regulation, CVSPs are due to the Agency on August 1 of the fiscal year preceding the requested funds.

Often safety initiatives can only be properly evaluated after lengthy implementation periods. The removal of the annual CVSP requirement is intended to provide States/Territories with additional flexibility to continue these initiatives for a longer period, such that funding can be appropriate requested and CMV crash reduction benefits can be documented. In addition, the use of multiple-year plans will reduce the States'/Territories' administrative burdens associated with submitting the plan each year. With implementation of multi-year plans, an annual, full submission of the CVSP will no longer be required. Only annual data and budget updates might be needed, depending on changes in the States'/Territories' operations and/or annual MCSAP funding allocation.

It is noted that the period of performance for MCSAP grants did not change under the FAST Act, so MCSAP funding will continue to be available to the State/Territory for the fiscal year of award and for the next fiscal year.

FMCSA codified the FAST Act changes to remove the annual requirements for the plan in the final rule titled, “Amendments to Implement Grants Provisions of the Fixing America's Surface Transportation Act.” This rule was published in the Federal Register on October 14, 2016 [81 FR 71002].

Additionally, the FAST Act requires that FMCSA publish each approved State/Territory multiple-year plan, and each annual update thereto, on a publically accessible Internet Web site of the Department of Transportation not later than 30 days after the date the Secretary approves the plan or update. 49 U.S.C. 311029(c)(3).

Questions

To assist FMCSA in developing the information technology system, form, and procedures for submission of a multiple-year plan, FMCSA requests information primarily from the MCSAP agencies responsible for developing and submitting the plan in response to the following questions:

1. How many years should a multi-year plan cover (i.e., 2 years, 3 years, 5 years, etc.)? Please explain and provide a rationale for the specific length of time between full plans.

2. Should the length (e.g., 2 years, 3 years, etc.) of a multi-year plan be fixed for all States/Territories or should States/Territories be able to vary the length? Please explain.

3. How many years long is the State's Strategic Highway Safety Plan (SHSP)? Should the CVSP be aligned with length of the SHSP? Please explain.

4. Can your State/Territory provide complete and accurate data to support a performance-based, multi-year plan? If so, how many years?

5. What data elements, certifications, and documents required under 49 CFR part 350 should be revised from or added to the current CVSP format to capture multiple years (e.g., State certification, etc.)? Please explain how they should be revised.

6. Would your State/Territory be confident submitting a multi-year plan knowing that FMCSA's program authorizations (i.e., U.S. Congressional legislation that continues one or more programs) are expiring in the next year? Two Years? If so or if not, please explain.

7. Should a State/Territory be required to submit a full application on Grants.gov only once for a multi-year plan or annually? Please explain.

8. Should FMCSA institute the multi-year CVSP at one time for all States/Territories, or is a phased-in approach, with a proportionate number of States submitting such plans over the time period of the multi-year plan (e.g., half of States over a two-year plan, a third of States for a three-year plan, etc.), be a more advantageous implementation method? Please explain.

9. Are there other factors, concerns and/or elements that FMCSA should consider in the implementation of multi-year plans? Please provide specifics regarding these additional considerations.

10. In moving to a multi-year CVSP with annual updates, in order to enhance usability of the electronic CVSP (eCVSP) application, what additional features should FMCSA add? Please be specific in providing recommendations for additional features.

11. FMCSA is considering requiring certain CVSP data fields to be validated or updated annually. Examples of such data fields include prior-year activity objectives, current-year activity goals, current-year spending plans, etc. What additional data fields do you believe should be updated annually and why?

12. Should the annual update be a mechanism within the eCVSP tool's multi-year CVSP or a completely separate module with the eCVSP tool? Please explain.

13. What data elements and documents should be revised from, or added to, the current CVSP format to capture the annual update? Please explain how they should be revised.

14. Should the FMCSA require States/Territories to provide detailed spending plans or only require grantees to estimate their costs utilizing the SF-424A budget categories for the multi-year plan and annual update in the eCVSP tool? Please explain how your preference would enhance the CVSP planning process.

After consideration of the information received in response to this notice, FMCSA will prescribe the procedures required by the FAST Act through a future Federal Register notice.

Issued on: October 20, 2016.
T.F. Scott Darling, III,
Administrator.

[FR Doc. 2016-25980 Filed 10-26-16; 8:45 am]

BILLING CODE 4910-EX-P